NATIONAL SCIENCE FOUNDATION

Special Emphasis Panel in Experimental & Integrative Activities; Notice of Meeting

In accordance with the Federal Advisory Committee Act (Pub. L. 92-463, as amended), the National Science Foundation announces the following meeting:

Name: Special Emphasis Panel in Experimental & Intergrative Activities (1193).

Date/Time: July 24, 2000, 8:30 a.m.-5 p.m.

Place: Room 130, 320, 330, 340, 370, and 470, National Science Foundation, 4201 Wilson Blvd., Arlington, VA

Type of Meeting: Closed.

Contact Person: Dr. Caroline Wardle, Information Technology Workforce, Experimental and Integrative Activities, Room 1160, National Science Foundation, 4201 Wilson Boulevard, VA 22230 Telephone: (703) 306-1981.

Purpose of Meeting: To provide advice and recommendations concerning proposals submitted to the National Science Foundation for financial support.

Agenda: To review and evaluate CISE Information Technology Workforce proposals submitted in response to the program announcement (NSF 00-77).

Reason for Closing: The proposals being reviewed include information of a proprietary or confidential nature, including technical information; financial data, such as salaries; and personal information concerning individuals associated with the proposals. These matters are exempt under 5 U.S.C. 552b(c), (4) and (6) of the Government in the Sunshine Act.

Dated: June 28, 2000.
Karen J. York,
Committee Management Officer.

[FR Doc. 00-16786 Filed 6-30-00; 8:45 am]

BILLING CODE 7555-01-M